DEPARTMENT OF TRANSPORTATION

Federal Aviation Administration

14 CFR Part 71

[Docket No. FAA-2016-8833; Airspace Docket No. 16-ACE-8]

Amendment of Class E Airspace for the Following Iowa Towns; Algona, IA; Ankeny, IA; Atlantic, IA; Belle Plane, IA; Creston, IA; Estherville, IA; Grinnell, IA; Guthrie Center, IA; and Oelwein, IA

AGENCY: Federal Aviation Administration (FAA), DOT.

ACTION: Final rule.

SUMMARY: This action modifies Class E surface area at Ankeny Regional Airport, Ankeny, IA; and Class E airspace extending upward from 700 feet above the surface at Algona Municipal Airport, Algona, IA; Ankeny Regional Airport; Atlantic Municipal Airport, Atlantic, IA; Belle Plaine Municipal Airport, Belle Plaine, IA; Creston Municipal Airport, Creston, IA; Estherville Municipal Airport, Estherville, IA; Grinnell Regional Airport, Grinnell, IA; Guthrie County Regional Airport, Guthrie Center, IA; and Oelwein Municipal Airport, Oelwein, IA. Decommissioning of non-directional radio beacons (NDB), cancellation of NDB approaches, and implementation of area navigation (RNAV) procedures have made this action necessary for the safety and management of Instrument Flight Rules (IFR) operations at these airports. Additionally, the geographic coordinates for Algona Municipal Airport, Atlantic Municipal Airport, and Grinnell Regional Airport are being adjusted to coincide with the FAA's aeronautical database. The name of Belle Plaine, IA, is also being adjusted to correct a misspelling in the legal description.

DATES: Effective 0901 UTC, April 27, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC, 20591; telephone: 202-267-8783. The Order is also available for inspection at the National Archives and Records Administration (NARA). For information on the availability of FAA Order 7400.11A at NARA, call 202-741-6030, or go to http://www.archives.gov/federal_register/code_of_federal-regulations/ibr_locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class E surface area at Ankeny Regional Airport, Ankeny, IA; and Class E airspace extending upward from 700 feet above the surface at Algona Municipal Airport, Algona, IA; Ankeny Regional Airport; Atlantic Municipal Airport, Atlantic, IA; Belle Plaine Municipal Airport, Belle Plaine, IA; Creston Municipal Airport, Creston, IA; Estherville Municipal Airport, Estherville, IA; Grinnell Regional Airport, Grinnell, IA; Guthrie County Regional Airport, Guthrie Center, IA; and Oelwein Municipal Airport, Oelwein, IA.

History

On September 23, 2016, the FAA published in the Federal Register a notice of proposed rulemaking (NPRM), (81 FR 65583) Docket No. FAA-2016-8833, to amend Class E surface area at Ankeny Regional Airport, Ankeny, IA; and Class E airspace extending upward from 700 feet above the surface at Algona Municipal Airport, Algona, IA; Ankeny Regional Airport; Atlantic Municipal Airport, Atlantic, IA; Belle Plaine Municipal Airport, Belle Plaine, IA; Creston Municipal Airport, Creston, IA; Estherville Municipal Airport, Estherville, IA; Grinnell Regional Airport, Grinnell, IA; Guthrie County Regional Airport, Guthrie Center, IA; and Oelwein Municipal Airport, Oelwein, IA. Interested parties were invited to participate in this rulemaking effort by submitting written comments on the proposal to the FAA. No comments were received.

Class E airspace designations are published in paragraph 6002 and 6005, respectively, of FAA Order 7400.11A, dated August 3, 2016, and effective September 15, 2016, which is incorporated by reference in 14 CFR 71.1. The Class E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 modifies:

Class E surface area airspace within a 4.2-mile radius (increased from the 4-mile radius) of Ankeny Regional Airport, Ankeny, IA;

Class E airspace extending upward from 700 feet above the surface:

By removing the 10-mile extension northwest of Algona Municipal Airport, Algona, IA, and updating the geographic coordinates of the airport to coincide with the FAA's aeronautical database;

Within a 6.7-mile radius (reduced from the previous 7.1-mile radius) of Ankeny Regional Airport, Ankeny, IA, and removing the extensions 9.3 miles northeast and 11.1 miles north of the airport;

Within a 7.2-mile radius (increased from the 6.8-mile radius) of Atlantic Municipal Airport, Atlantic, IA, with an extension to the northeast from the 7.2-mile radius to 9.2 miles, and updating the geographic coordinates of the airport to coincide with the FAA's aeronautical database;

Within a 6.5-mile radius (reduced from the previous 7.5-mile radius) of Belle Plaine Municipal Airport, Belle Plaine, IA, and correcting city designation from Belle Plane to Belle Plaine;

By removing the 11-mile extension south of Creston Municipal Airport, Creston, IA;

By removing the 7.4-mile extensions south and northwest of Estherville Municipal Airport, Estherville, IA;

Within a 6.5-mile radius (reduced from the previous 7.6-mile radius) of Grinnell Regional Airport, Grinnell, IA, and updating the geographical coordinates of the airport to coincide with the FAA's aeronautical database;

By adding an extension to the north from the 6.4-mile radius to 9.8 miles of Guthrie County Regional Airport, Guthrie Center, IA;

And within a 6.4-mile radius (reduced from the previous 7.3-mile radius) of Oelwein Municipal Airport, Oelwein, IA.

Airspace reconfiguration is necessary due to the decommissioning of the Mapleton NDB, cancellation of NDB approaches, and implementation of RNAV procedures at the airport and for the safety and management of the standard instrument approach procedures for IFR operations at these airports.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (Air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 6002 Class E Airspace Designated as Surface Areas.

* * * * *

ACE IA E2 Ankeny, IA [Amended]

Ankeny Regional Airport, IA

(Lat. 41°41′29″ N., long. 93°33′59″ W.)

Within a 4.2-mile radius of Ankeny Regional Airport, excluding that portion within the Des Moines Class C airspace area.

* * * * *

Paragraph 6005 Class E Airspace Areas Extending Upward From 700 Feet or More Above the Surface of the Earth.

* * * * *

ACE IA E5 Algona, IA [Amended]

Algona Municipal Airport, IA

(Lat. 43°04'41″ N., long. 94°16'19″ W.)

That airspace extending upward from 700 feet above the surface within a 6.4-mile radius of Algona Municipal Airport.

* * * * *

ACE IA E5 Ankeny, IA [Amended]

Ankeny Regional Airport, IA

(Lat.41°41′29″ N., long. 93°33′59″ W.)

That airspace extending upward from 700 feet above the surface within a 6.7-mile radius of Ankeny Regional Airport, excluding that portion within the Des Moines Class C airspace area.

ACE IA E5 Atlantic, IA [Amended]

Atlantic Municipal Airport, IA

(Lat. 41°24′14″ N., long. 95°02′56″ W.)

That airspace extending upward from 700 feet above the surface within a 7.2-mile radius of Atlantic Municipal Airport and within 1.8 miles each side of the 022° bearing from the airport extending from the 7.2-mile radius to 9.2 miles northeast of the airport.

* * * * *

ACE IA E5 Belle Plaine, IA [Amended]

Belle Plaine Municipal Airport, IA

(Lat. 41°52′44″ N., long. 92°17′04″ W.)

That airspace extending upward from 700 feet above the surface within a 6.5-mile radius of Belle Plaine Municipal Airport, excluding that portion which overlies the Cedar Rapids, IA, Class E airspace area.

* * * * *

ACE IA E5 Creston, IA [Amended]

Creston Municipal Airport, IA

(Lat. 41°01′17″ N., long. 94°21′48″ W.)

That airspace extending upward from 700 feet above the surface within a 6.5-mile radius of Creston Municipal Airport.

* * * * *

ACE IA E5 Estherville, IA [Amended]

Estherville Municipal Airport, LA

(Lat. 43°24′27″ N long. 94°44′47″ W.)

That airspace extending upward from 700 feet above the surface within a 6.5-mile radius of Estherville Municipal Airport.

* * * * *

ACE IA E5 Grinnell, IA [Amended]

Grinnell Regional Airport, IA

(Lat. 41°42′36″ N., long. 92°44′10″ W.)

That airspace extending upward from 700 feet above the surface within a 6.5-mile radius of Grinnell Regional Airport.

ACE IA E5 Guthrie Center, IA [Amended]

Guthrie County Regional Airport, IA

(Lat. 41°41′13″ N., long. 93°26′06″ W.)

That airspace extending upward from 700 feet above the surface within a 6.4-mile radius of the Guthrie County Regional Airport, and within 2 miles each side of the 360° bearing from the airport extending from the 6.4-mile radius to 9.8 miles north of the airport.

* * * * *

ACE IA E5 Oelwein, IA [Amended]

Oelwein Municipal Airport, IA

(Lat. 42°40′51″ N., long. 91°58′28″ W.)

That airspace extending upward from 700 feet above the surface within a 6.4-mile radius of Oelwein Municipal Airport.

Issued in Fort Worth, Texas, on December 28, 2016.
Thomas L. Lattimer,
Acting Manager, Operations Support Group, ATO Central Service Center.

[FR Doc. 2017-00186 Filed 1-9-17; 8:45 am]

BILLING CODE 4910-13-P